DEPARTMENT OF JUSTICE

Notice of Lodging of Consent Judgment Pursuant to Resource Recovery and Conservation Act

Notice is hereby given that on August 15, 2008, a proposed Consent Judgment in United States v. 175 Inwood Associates, et al. , Civil Action No. CV-96-1471, was lodged with the United States District Court for the Eastern District of New York.

The proposed Consent Judgment will resolve the United States' claims under Sections 104, 106 and 107 of the Comprehensive Environmental Response, Compensation, and Liability Act of 1980, 42 U.S.C. 9604, 9606 and 9607, as amended (“CERCLA”), on behalf of the U.S. Environmental Protection Agency (“EPA”) against 175 Inwood Associates, Abraham Woldiger, Abraham Taub, and Peter Hoffman (collectively “defendants”) regarding the Rockaway Metal Products Superfund Site in Inwood, New York. By Memorandum and Order dated August 6, 2004, the United States District Court for the Eastern District of New York Court held that defendants were responsible for the EPA's past response costs and were liable for civil penalties under CERCLA Section 104 and Section 106 for violations of two EPA orders and failures to respond to EPA requests for information.

The Consent Judgment requires defendant Peter Hoffman to pay to the United States the total sum of $350,000, which includes EPA's past response costs in the amount of $150,000 and civil penalties in the amount of $200,000, and requires defendants Abraham Woldiger and Abraham Taub to each pay to the United States civil penalties in the amount of $25,000. The civil penalties are for defendants' partial violations of the EPA orders and EPA requests for information. With respect to defendants Woldiger and Hoffman, the settlement amount was calculated after conducting an ability-to-pay analysis.

The Department of Justice will receive, for a period of thirty (30) days from the date of this publication, comments relating to the Consent Judgment. Comments should be addressed to the Assistant Attorney General, Environment and Natural Resources Division, and either e-mailed to pubcomment-ees.enrd@usdoj.gov or mailed to P.O. Box 7611, U.S. Department of Justice, Washington, DC 20044-7611, and should refer to United States v. 175 Inwood Associates, et al., Civil Action No. CV-96-1471, D.J. Ref. No. 90-11-2-1079.

The proposed Consent Judgment may be examined at the Office of the United States Attorney, Eastern District of New York, 271 Cadman Plaza East, 7th Fl., Brooklyn, New York 11201, and at the United States Environmental Protection Agency, Region II, 290 Broadway, New York, New York 10007-1866. During the public comment period, the proposed Consent Judgment may also be examined on the following Department of Justice Web site, http://www.usdoj.gov/enrd/Consent_Decrees.html. A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury or, if by e-mail or fax, forward a check in that amount to the Consent Decree Library at the stated address.

Maureen Katz,
Assistant Section Chief, Environmental Enforcement Section, Environment and Natural Resources Division.

[FR Doc. E8-19418 Filed 8-21-08; 8:45 am]

BILLING CODE 4410-15-P